DEPARTMENT OF COMMERCE

National Oceanic and Atmospheric Administration

50 CFR Part 660

[Docket No. 140904754-5188-02]

RIN 0648-BF27

Magnuson-Stevens Act Provisions; Fisheries Off West Coast States; Pacific Coast Groundfish Fishery; 2015-2016 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to protect overfished and depleted stocks while allowing fisheries to access more abundant groundfish stocks.

DATES: This final rule is effective August 14, 2015.

FOR FURTHER INFORMATION CONTACT: Gretchen Hanshew, phone: 206-526-6147, fax: 206-526-6736, or email: gretchen.hanshew@noaa.gov.

SUPPLEMENTARY INFORMATION:

Electronic Access

This rule is accessible via the Internet at the Office of the Federal Register Web site at https://www.federalregister.gov. Background information and documents are available at the Pacific Fishery Management Council's Web site at http://www.pcouncil.org/. Copies of the final environmental impact statement (FEIS) for the Groundfish Specifications and Management Measures for 2015-2016 and Biennial Periods Thereafter are available from Donald McIsaac, Executive Director, Pacific Fishery Management Council (Council), 7700 NE Ambassador Place, Portland, OR 97220, phone: 503-820-2280.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

The final rule to implement the 2015-2016 harvest specifications and management measures for most species of the Pacific coast groundfish fishery was published on March 10, 2015 (80 FR 12567).

The Council—in coordination with Pacific Coast Treaty Indian Tribes and the States of Washington, Oregon, and California—recommended changes to current groundfish management measures at its June 10-16, 2015, meeting. Specifically, the Council recommended an increase to commercial fishery trip limits for sablefish, blackgill rockfish, big skate, Minor Shelf Rockfish, and California scorpionfish. The Council also recommended a decrease to commercial fishery trip limits for black rockfish. NMFS has determined that good cause exists to waive notice and comment for trip limit changes for sablefish, blackgill rockfish, black rockfish and big skate and this action implements those changes. However, NMFS has determined that the Council-recommended increases to trip limits for Minor Shelf Rockfish and California scorpionfish cannot be implemented without a two-meeting process and notice and comment rulemaking. Therefore, those changes are not included in this action.

Fishery Management Measures for the Limited Entry Fixed Gear (LEFG) and Open Access (OA) Sablefish Daily Trip Limit (DTL) Fisheries North of 36° N. lat.

To increase harvest opportunities for the LEFG and OA fixed gear sablefish DTL fisheries north of 36° N. lat., the Council considered increases to trip limits. The Council's Groundfish Management Team (GMT) made model-based landings projections for the LEFG and OA fixed gear sablefish DTL fisheries north of 36° N. lat. for the remainder of the year. These projections were based on the most recent information available. The model predicted harvest of 83 percent (196 mt) of the LEFG harvest guideline (HG) (236 mt) and 62 percent (242 mt) of the OA HG (388 mt) under current trip limits. This indicates that projected catch in both the LEFG and OA fisheries was lower than anticipated when the trip limits were initially established (93 percent (220 mt) of the LEFG HG and 92 percent (358 mt) of the OA HG). With the increase in trip limits, predicted harvest assuming medium ex-vessel price curves is 90 percent (212 mt) of the LEFG HG (236 mt) and 83 percent (323 mt) of the OA HG (388 mt). Projections for the fixed gear sablefish fisheries south of 36° N. lat. were similar to what they were anticipated to be in the biennial harvest specifications and management measures, and no requests were made by industry for changes; therefore, and no inseason actions were considered.

Therefore, the Council recommended and NMFS is implementing trip limit changes for the LEFG and the OA sablefish DTL fisheries north of 36° N. lat. The trip limits for sablefish in the LEFG fishery north of 36° N. lat. increase from “1,025 lb (465 kg) per week, not to exceed 3,075 lb (1,394 kg) per two months” to “1,125 lb (510.3 kg) per week, not to exceed 3,375 lb (1,530 kg) per two months” beginning during period 4 through the end of the year.

The trip limits for sablefish in the OA sablefish DTL fishery north of 36° N. lat. are increased from “300 lb (136 kg) per day, or one landing per week of up to 900 lb (408 kg), not to exceed 1,800 lb (817 kg) per two months” to “350 lb (159 kg) per day, or one landing per week of up to 1,600 lb (726 kg), not to exceed 3,200 lb (1,452 kg) per two months” during period 4 through the end of the year.

Fishery Management Measures for Blackgill Rockfish in the Limited Entry Fixed Gear (LEFG) and Open Access (OA) Fisheries South of 40°10′ N. lat.

Blackgill rockfish south of 40°10′ N. lat. was assessed in 2011. The 2011 assessment indicated the stock was in the precautionary zone with spawning biomass depletion estimated to be 30 percent of its unfished biomass at the start of 2011. The Council chose to leave blackgill rockfish as a stock within the Minor Slope Rockfish south complex. Beginning in 2013, the Council recommended, and NMFS established, annual HGs and management measures to keep anticipated catch of blackgill rockfish within its HG, including a species-specific sorting requirement and species-specific sub-limits. Annual HGs and trip limit management in non-IFQ fisheries continue to be utilized for management of blackgill rockfish south of 40°10′ N. lat.

The most recently available information (2013) indicates that the Minor Slope Rockfish trip limit and the blackgill rockfish sub-limit set in 2013 kept catch of Minor Slope Rockfish south of 40°10′ N. lat. at 148 mt, which is less than 25 percent of the 2013 ACL (618 mt). Additionally, catch of blackgill was 18.5 mt, 42 percent of the 44 mt HG (LEFG HG of 26.4 mt and OA HG of 17.6 mt, combined). The same trip limits were in place in 2014, and 2014 inseason estimates indicate that similar catch patters are likely to be seen in the completed 2014 total mortality report. The best available 2015 inseason information at the June Council meeting indicated that catch of blackgill rockfish was approximately half of the amount of catch during that same time period in 2014. The Council recommended that the blackgill rockfish sub-limit be increased modestly to reduce regulatory discards since catch was well below the HG in 2013 and was likely similar in scale in 2014 and because catch in 2015 is below the levels observed in 2014. In addition, a modest increase in the sub-limit will likely reduce regulatory discards of blackgill rockfish when caught incidentally with co-occurring species in the Minor Slope Rockfish complex.

Therefore, the Council recommended, and NMFS is implementing, an increase to blackgill rockfish sub-limits for the LEFG and the OA fisheries south of 40°10′ N. lat. The blackgill rockfish sub-limit, within the overall trip limit for Minor Slope Rockfish complex south of 40°10′ N. lat., is increased in the LEFG fishery from “40,000 lb (18,144 kg) per two months, of which no more than 1,375 lb (624 kg) may be blackgill rockfish” to “40,000 lb (18,144 kg) per two months, of which no more than 1,600 lb (726 kg) may be blackgill rockfish” beginning during period 4 through the end of the year.

The blackgill rockfish sub-limit, within the overall trip limit for Minor Slope Rockfish complex south of 40°10′ N. lat., is increased in the OA fishery from “10,000 lb (4,536 kg) per two months, of which no more than 475 lb (216 kg) may be blackgill rockfish” to “10,000 lb (4,536 kg) per two months, of which no more than 550 lb (250 kg) may be blackgill rockfish” beginning during period 4 through the end of the year.

Fishery Management Measures for Black Rockfish in the Limited Entry Fixed Gear (LEFG) and Open Access (OA) Fisheries Between 42° N. lat. and 40°10′ N. lat.

Black rockfish are caught in nearshore commercial and recreational fisheries. Black rockfish is a healthy stock that co-occurs with nearshore overfished rockfish species (e.g., canary rockfish and yelloweye rockfish). Catch of black rockfish is managed, in part, to keep catch of co-occurring overfished species within the management targets for the nearshore fishery and the state of California. The best available information on commercial black rockfish catch in northern California through June 12, 2015, indicates that harvest so far in 2015 (58 mt) is much higher than what it was in this area for the entire year of 2014 (34 mt).

In 2014, the shoreward boundary of the non-trawl rockfish conservation area (RCA) in this area between 42° N. lat. and 40°10′ N. lat. was the boundary line approximating the 20 fm depth contour. For 2015, the boundary line off northern California was shifted seaward to the boundary line approximating the 30 fm depth contour, opening the area to nearshore fishing between 20 fm line and the 30 fm line for the first time since 2009 (80 FR 12567, March 10, 2015). This change in the depth restriction in the non-trawl commercial fisheries is providing additional access to nearshore stocks, and may be part of the reason for the increased black rockfish landings in 2015 compared to 2014. Additionally, the change in depth restriction may be changing bycatch rates of co-occurring overfished species in the nearshore fishery, but little information is available to inform bycatch rates inseason.

Based on the best available information, catch of black rockfish is much higher in 2015 compared to 2014. To reduce projected catch of co-occurring overfished species and reduce the risk of exceeding HGs for those overfished species, the Council considered reductions to black rockfish trip limits between 42° N. lat. and 40°10′ N. lat. The Council recommended decreasing the black rockfish trip limit to the same limit that was in effect when the northern California non-trawl RCA shoreward boundary was at the 30 fm line, as it is in 2015.

Therefore, the Council recommended and NMFS is implementing decreased black rockfish trip limits for the LEFG and the OA fisheries between 42° N. lat. and 40°10′ N. lat. The black rockfish trip limit, within the overall trip limit for Minor Nearshore Rockfish complex, is decreased in the LEFG and OA fisheries from “8,500 lb (3,856 kg) per two months of which no more than 1,200 lb (544 kg) may be species other than black rockfish” to “6,000 lb (2,722 kg) per two months of which no more than 1,200 lb (544 kg) may be species other than black rockfish” beginning during period 4 through the end of the year.

Fishery Management Measures for Big Skate in the Shorebased IFQ Program

Before 2015, big skate was managed as a component stock within the Other Fish complex. The big skate OFL estimate, along with the estimated OFLs for the other species in the complex, contributed to the OFL specified in regulation for the Other Fish complex. Species managed in complexes do not have OFLs specified in regulation. Therefore, the best estimate of a sustainable harvest for a single species that is managed in a complex is referred to as an “OFL contribution,” since the OFL for the complex is the sum of the contributing OFLs for all the component species.

During development of the 2015-2016 harvest specifications and management measures, best estimates of mortality indicated that harvest of big skate was 18 percent of the big skate OFL contribution and that it was not in need of conservation and management. Big skate was removed from the Other Fish complex and designated as an ecosystem component (EC) species (80 FR 12567, March 10, 2015). If the Council had chosen to keep big skate in the fishery, with species specific harvest specifications, the 2015 big skate OFL endorsed by the Scientific Statistical Committee (SSC) would have been 541 mt. Since the Council chose to designate this species as an EC species, the big skate OFL estimate became unnecessary. Since development and implementation of the 2015-2016 harvest specifications and management measures, new information indicated that mortality of big skate is approaching or exceeding the 2014 big skate OFL contribution.

At its April 2015 meeting, the Council recommended management measures to reduce mortality of big skate and reduce the risk of overfishing the stock. At that time, the best estimate of sustainable harvest for big skate was thought to be the 2014 OFL contribution. The Council recommended and NMFS implemented a trip limit reduction for big skate in the Shorebased IFQ Program and best estimates at that time indicated that total mortality of big skate through the end of 2015 under that trip limit structure would be 441 mt, 17 mt lower than the 2014 OFL contribution of 458 mt (80 FR 31858, June 4, 2015).

The analysis by the Council's GMT assumed 100 percent mortality of discarded big skate and assumed that, once a trip limit was reached, encounters of big skate would cease and no additional landings or discards would occur. The GMT acknowledged several issues with these assumptions, but noted that the April analysis was limited in scope due to time constraints. The Council acknowledged that the mortality estimates and the OFL contribution both have high degrees of uncertainty, and recommended precautionary management measures for conservation of big skate. The Council also acknowledged that additional information and analyses would likely become available, and that management measures for big skate would be considered in light of emerging and improving information.

At its June 2015 meeting, the Council considered additional analysis by the GMT, recommendations of its SSC, as well as updated fishery information, regarding big skate mortality and management measures. The West Coast Observer Program estimates that almost 80 percent of big skate caught in groundfish fisheries are discarded. Following a literature review, the SSC recommended that a 50 percent discard mortality rate for big skate caught with commercial trawl gear was more appropriate. This is consistent with the assumed discard mortality for another skate species for which trip limits are in place (longnose skate). In addition, projected estimates of big skate catch through the end of the year decreased because of reduced inseason estimates. This reduction likely resulted from an increased awareness and avoidance by the fishing fleet, and harvest projection changes resulting from the Council's improved understanding of big skate discard mortality rate.

At its June 2015 meeting, the Council also considered information regarding the best available estimate for a sustainable harvest level of big skate in 2015. In April 2015, the Council aimed to keep mortality of big skate below the 2014 OFL contribution, the best estimate available at that time. In June, the Council was reminded that the SSC endorsed a 2015 big skate OFL in November 2013. Since the Council recommended big skate be designated as an EC species, no harvest specifications were adopted for the 2015-2016 biennial cycle. However, in light of the need to better estimate big skate mortality, as it is approaching the best OFL contribution estimates, the SSC-endorsed estimated 2015 OFL is the best available estimate of sustainable harvest. Therefore, the Council considered projected big skate mortality in 2015 compared to the estimated 2015 OFL, rather than the 2014 OFL contribution. The 541 mt estimated 2015 OFL for big skate is 83 mt higher than the 2014 OFL contribution that was used in the April 2015 GMT analyses. Therefore, the Council considered higher trip limits for big skate than those adopted in April 2015. June 2015 GMT estimates indicate that with higher trip limits for big skate of 35,000 pounds per two months, through the remainder of the year, big skate total mortality will still be below the currently available best estimate of the 2015 OFL (541 mt).

As discussed above, the best estimate of the discard mortality rate decreased from 100 percent to 50 percent and the estimated 2015 OFL that is higher than the 2014 OFL contribution. Therefore, increases to the big skate trip limits in the IFQ fishery are warranted. The Council considered increasing the trip limit for big skate in the Shorebased IFQ Program, beginning in Period 4 (July-August). A range of trip limits was considered: 25,000 lb (11,340 kg) per two months, 30,000 lb (13,608 kg) per two months, and 35,000 lb (15,876 kg) per two months for Periods 4-6 (July-December). All alternative trip limits are anticipated to bring total mortality below the estimated 2015 OFL of 541 mt, and the estimated 2015 Acceptable Biological Catch (ABC) (assuming the same P* as 2014 of 0.40) of 451 mt.

The Council recommended, and NMFS is implementing, an increase in the big skate trip limit in the Shorebased IFQ Program from “20,000 lbs (9,072 kg) per two months” to “35,000 lb (15,876 kg) per two months” in periods 4-6 (from July through December). Best estimates indicate that total mortality of big skate through the end of 2015 under this trip limit structure would be between 414 mt and 420 mt, 121-127 mt lower than the estimated 2015 OFL contribution of 541 mt and 21-27 mt lower than the estimated 2015 ABC contribution of 441 mt. The estimated total mortality is considered as a range to account for uncertainty in how fishing behavior will change after the big skate trip limit is reached. The Council recommended a trip limit that would allow approximately a 5 percent increase in total mortality, but would still be below the estimated 2015 ABC. The increase in trip limit is intended to allow vessels opportunistically targeting big skate to continue to do so, while keeping total mortality below the estimated 2015 ABC. The Council-recommended trip limits are codified in Tables 1 (North) and 1 (South) to Subpart C.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective August 14, 2015.

At the June Council meeting, the Council recommended that these changes be implemented as quickly as possible during the two-month cumulative limit period. There was not sufficient time after that meeting to draft this document and undergo proposed and final rulemaking before these actions need to be in effect. For the actions to be implemented in this final rule, affording the time necessary for prior notice and opportunity for public comment would prevent NMFS from managing fisheries using the best available science to approach, without exceeding, the ACLs for federally managed species in accordance with the PCGFMP and applicable law. The adjustments to management measures in this document affect commercial fisheries in Washington, Oregon and California. These increases to trip limits must be implemented as quickly as possible during the two-month cumulative limit period to allow LEFG and OA fixed gear fishermen an opportunity to harvest higher limits for: Sablefish without exceeding the ACL north of 36° N. lat.; big skate without exceeding the estimated 2015 OFL; and blackgill rockfish without exceeding the HG south of 40°10′ N. lat. The decrease to the black rockfish trip limit must be implemented by the start of the next two-month cumulative limit period, September 1, to keep catch of co-occurring overfished species within their HGs and rebuilding ACLs. It would be contrary to the public interest to delay implementation of these changes until after public notice and comment, because making this regulatory change by August 14, 2015, allows harvest as intended by the Council, consistent with the best scientific information available. These changes allow additional harvest in fisheries that are important to coastal communities while continuing to prevent ACLs of overfished and target species from being exceeded.

No aspect of this action is controversial, and changes of this nature were anticipated in the biennial harvest specifications and management measures established for 2015-2016.

Accordingly, for the reasons stated above, NMFS finds good cause to waive prior notice and comment and to waive the delay in effectiveness.

List of Subjects in 50 CFR Part 660

Fisheries, Fishing, and Indian fisheries.

Dated: August 14, 2015.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 1 (North) and 1 (South) to part 660, subpart D, are revised to read as follows:

BILLING CODE 3510-22-P

3. Table 2 (North) and 2 (South) to part 660, subpart E, are revised to read as follows:

4. Table 3 (North) and 3 (South) to part 660, subpart F, are revised to read as follows:

[FR Doc. 2015-20491 Filed 8-14-15; 4:15 pm]

BILLING CODE 3510-22-C